DEPARTMENT OF JUSTICE

Drug Enforcement Administration

Agency Information Collection Activities; Proposed Collection; Comments Requested

ACTION: 30-Day notice of information collection under review: extension of a currently approved collection, application for procurement quota for controlled substances.

The Department of Justice (DOJ), Drug Enforcement Administration (DEA) has submitted the following information collection request to the Office of Management and Budget (OMB) for review and approval in accordance with the Paperwork Reduction Act of 1995. The proposed information collection is published to obtain comments from the public and affected agencies. This proposed information collection was published in the Federal Register on December 6, 2002, Volume 67, Number 235, Page 72702, allowing for a 60 day public comment period.

The purpose of this notice is to allow for an additional 30 days for public comment until March 10, 2003. This process is conducted in accordance with 5 CFR 1320.10.

Written comments/or suggestions regarding the items contained in this notice, especially the estimated public burden and associated response time, should be directed to The Office of Management and Budget, Office of Information and Regulatory Affairs, Attention Department of Justice Desk Officer, Washington, DC 20503.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection in information, including the validity of the methodology and assumptions used;

(3) Enhance the quality, utility, and clarity of the information to be collected; and

(4) Minimize the burden of the collection of information on those who are to respond, including through the use of appropriate automated, electronic, and mechanical, or other technological collection techniques or other forms of information technology, e.g., permitting electronic submission of responses.

Overview of The Information Collection

(1) Type of Information Collection: Extension of a currently approved collection.

(2) Title of the Form/Collection: Application for procurement quota for controlled substances.

(3) Agency form numbers, if any, and the applicable component of the Department of Justice sponsoring the collection: Form Number, DEA Form 250. Office of Diversion Control, Drug Enforcement Administration, U.S. Department of Justice.

(4) Affected public who will be asked or required to respond, as well as a brief abstract:

Primary: Business or other for-profit.

Other: None.

Abstract: Title 21, United States Code, section 826, and title 21, Code of Federal Regulations (CFR), 1303.12(b) require the United States companies who desire to use any basic class of controlled substances listed in Schedule I or II for purposes of manufacturing during the next calendar year shall apply on DEA Form 250 for a procurement quota for such class. DEA is required by statute (21 U.S.C. 826(c)) to limit the production of Schedule I and II controlled substances to the amounts necessary the meet “the estimated legitimate medical, scientific, research and industrial needs of the United States.”

(5) An estimate of the total number of respondents and the amount of time estimated for an average respondent to respond: There will be an estimated 200 responses, one for each respondent. The estimated amount of time required for the average respond to respond: There are 284 respondents, completing 818 annual responses. Each response is estimated to take 1 hour.

(6) An estimate of the total public burden (in hours) associated with the collection: There are 818 annual burden hours associated with this collection.

If additional information is required contact: Robert B. Briggs, Department Clearance Officer, Information Management and Security Staff, Justice Management Division, United States Department of Justice, Suite 1600, Patrick Henry Building, 601 D Street, NW., Washington, DC 20530.

Dated: February 3, 2003.
Robert B. Briggs,
Department Clearance Officer, Department of Justice.

[FR Doc. 03-3077 Filed 2-6-03; 8:45 am]

BILLING CODE 4410-09-M